Proclamation 7839 of November 4, 2004

National Alzheimer's Disease Awareness Month, 2004

By the President of the United States of America

A Proclamation

Today, it is estimated that over 4 million Americans suffer from Alzheimer's disease. A progressive, degenerative disorder of the brain, Alzheimer's robs individuals of their memory and their mental and physical functions, leading to increasing dependence on others for care. Factors such as age and family history can contribute to the risk of developing this disease. While no cure exists yet, researchers are learning more about this disease and how to enhance the quality of life for those with Alzheimer's.

President Reagan believed in the courage and capacity of the American people to overcome any obstacle, and my Administration remains committed to funding medical research programs to find a cure for Alzheimer's disease and improving care for Alzheimer's patients and increasing support for their families. The National Institutes of Health plans to spend $680 million in Alzheimer's research in 2004 and an estimated $699 million in 2005, a 33 percent increase from 2001. The National Institutes of Health, along with the Department of Veterans Affairs, is testing drugs for prevention and treatment of Alzheimer's disease. This year, the National Institute on Aging launched the Alzheimer's Disease Neuroimaging Initiative, an innovative partnership with the private sector that is using the latest technologies to observe changes in the brains of individuals who are affected by Alzheimer's. This project is researching ways to enhance early diagnosis and further the development of treatments. In addition, the Administration on Aging is working with States to improve home and community-based services for people with dementia and their families.

As we observe National Alzheimer's Disease Awareness Month, we recognize our citizens who are living with this disease and extend our gratitude to those who provide vital care and support. We also specially recognize the public and private scientists, researchers, nurses, and health care providers who are dedicated to finding new and better ways to help patients and ultimately find a cure for Alzheimer's disease. Their efforts bring comfort to many and offer hope for the future.

NOW, THEREFORE, I, GEORGE W. BUSH, President of the United States of America, by virtue of the authority vested in me by the Constitution and laws of the United States, do hereby proclaim November 2004 as National Alzheimer's Disease Awareness Month. I call upon the people of the United States to observe this month with appropriate programs and activities.

IN WITNESS WHEREOF, I have hereunto set my hand this fourth day of November, in the year of our Lord two thousand four, and of the Independence of the United States of America the two hundred and twenty-ninth.

B

[FR Doc. 04-25164

Filed 11-8-04; 9:39 am]

Billing code 3195-01-P